DEPARTMENT OF AGRICULTURE

Animal and Plant Health Inspection Service

[Docket No. APHIS-2012-0111]

Notice of Request for Revision to and Extension of Approval of an Information Collection; Cut Flowers From Countries With Chrysanthemum White Rust

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of cut flowers from countries with chrysanthemum white rust.

DATES: We will consider all comments that we receive on or before March 19, 2013.

ADDRESSES: You may submit comments by either of the following methods:

• Federal eRulemaking Portal: Go to http://www.regulations.gov/#!documentDetail;D=APHIS-2012-0111-0001.

• Postal Mail/Commercial Delivery: Send your comment to Docket No. APHIS-2012-0111, Regulatory Analysis and Development, PPD, APHIS, Station 3A-03.8, 4700 River Road Unit 118, Riverdale, MD 20737-1238.

Supporting documents and any comments we receive on this docket may be viewed at http://www.regulations.gov/#!docketDetail;D=APHIS-2012-0111 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of cut flowers from countries with chrysanthemum white rust, contact Mr. William Aley, Senior Regulatory Policy Specialist, Plant Health Programs, PPQ, APHIS, 4700 River Road Unit 133, Riverdale MD 20737; (301) 851-2130. For copies of more detailed information on the information collection, contact Mrs. Celeste Sickles, APHIS' Information Collection Coordinator, at (301) 851-2908.

SUPPLEMENTARY INFORMATION: Title: Cut Flowers from Countries with Chrysanthemum White Rust.

OMB Number: 0579-0271.

Type of Request: Revision to and extension of approval of an information collection.

Abstract: The Plant Protection Act (PPA, 7 U.S.C. 7701 et seq.) authorizes the Secretary of Agriculture to restrict the importation, entry, or interstate movement of plants, plant products, and other articles to prevent the introduction of plant pests into the United States or their dissemination within the United States. As authorized by the PPA, the Animal and Plant Health Inspection Service (APHIS) regulates the importation of cut flowers from certain parts of the world as provided in “Subpart—Cut Flowers” (7 CFR 319.74-1 through 319.74-4).

Chrysanthemum white rust (CWR) is a serious disease in nurseries that can cause complete loss of chrysanthemum crops within greenhouses. The causal agent is Puccinia horiana Henn., which is a filamentous fungus and obligate parasite. At this time, CWR is not established in the United States.

In accordance with the regulations for cut flowers, APHIS allows the importation of cut flowers from countries with CWR into the United States under certain conditions. These conditions involve the use of information collection activities, including a phytosanitary certificate and additional declaration, box labeling, and production site registration.

Cut flowers must be accompanied by a phytosanitary certificate or equivalent documentation with an additional declaration stating that the place of production as well as the consignment have been inspected and found free of Puccinia horiana. In addition, box labels must identify the registered production site.

The information collection activities of a phytosanitary certificate and box labeling were approved by the Office of Management and Budget (OMB) under control number 0579-0271. However, when comparing the regulations with the information collection activities, we found that production site registration was omitted from previous information collections. The addition of production site registration will result in an increase in total estimated annual burden from 636 hours to 646 hours.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.2503 hours per response.

Respondents: Importers of chrysanthemum cut flowers, nurseries, registered production sites, and the national plant protection organizations of exporting countries.

Estimated annual number of respondents: 1,045.

Estimated annual number of responses per respondent: 2.470.

Estimated annual number of responses: 2,581.

Estimated total annual burden on respondents: 646 hours. (Due to averaging, the total annual burden hours may not equal the product of the annual number of responses multiplied by the reporting burden per response.)

All responses to this notice will be summarized and included in the request for OMB approval. All comments will also become a matter of public record.

Done in Washington, DC, this 14th day of January 2013.
Kevin Shea,
Acting Administrator, Animal and Plant Health Inspection Service.

[FR Doc. 2013-01016 Filed 1-17-13; 8:45 am]

BILLING CODE 3410-34-P